COMMODITY FUTURES TRADING COMMISSION

Public Availability of Fiscal Year 2012 Service Contract Inventory

AGENCY: Commodity Futures Trading Commission.

ACTION: Notice.

SUMMARY: The Commodity Futures Trading Commission (CFTC) is publishing this notice to advise the public of the availability of CFTC's Fiscal Year (FY) 2012 Service Contract Inventory.

FOR FURTHER INFORMATION CONTACT: Questions regarding the Service Contract Inventory should be directed to Sonda R. Owens, Contracting Officer, in the Financial Management Branch, Procurement Section, at 202-418-5182 or sowens@cftc.gov.

SUPPLEMENTARY INFORMATION: In accordance with Section 743 of Division C of the Consolidated Appropriations Act of 2010, Public Law 111-117, 123 Stat. 3034, CFTC is notifying the public of the availability of the agency's FY 2012 Service Contract Inventory. CFTC has posted its inventory and a summary of the inventory on the agency's Web site at the following link: http://www.cftc.gov/About/CFTCReports/index.htm.

This inventory provides information on service contract actions over $25,000 that were made in FY 2012. The information is organized by function to show how contracted resources are distributed throughout the agency. The inventory has been developed in accordance with guidance issued on November 5, 2010, by the Office of Management and Budget, Office of Federal Procurement Policy (OFPP), and the revised guidance issued on November 8, 2011. The November 5, 2010, OFPP guidance is available on the Internet at http://www.whitehouse.gov/sites/default/files/omb/procurement/memo/service-contract-inventories-guidance-11052010.pdf.

Dated: April 8, 2013.
Christopher J. Kirkpatrick,
Deputy Secretary of the Commission.

[FR Doc. 2013-08558 Filed 4-11-13; 8:45 am]

BILLING CODE 6351-01-P